NUCLEAR REGULATORY COMMISSION

[Docket No. 50-335]

Florida Power & Light Company; Notice of Withdrawal of Application for Amendments to Facility Operating License

The U.S. Nuclear Regulatory Commission (the Commission) has granted the request of Florida Power and Light Company (FPL, the licensee) to withdraw its January 17, 2001, application for proposed amendment to Facility Operating License No. DPR-67 for the St. Lucie Nuclear Plant, Unit 1, located in St. Lucie County, Florida.

The proposed amendment would have revised the Technical Specification (TS) Section 4.8.1.1.2.e by relocating the restriction to only perform the 18-month surveillance tests during shutdown to the individual surveillance requirements under 4.8.1.1.2.e. In addition, the proposed amendment would have revised TS 4.8.1.1.2.e.6 to remove the restriction to perform the emergency diesel generator 24-hour run surveillance test during shutdown.

The Commission had previously issued a Notice of Consideration of Issuance of amendment published in the Federal Register on March 7, 2001 (66 FR 13804). However, by letter dated May 14, 2001, the licensee withdrew the proposed change.

For further details with respect to this action, see the application for amendment dated January 17, 2001, and the licensee's letter dated May 14, 2001, which withdrew the application for license amendment. Documents may be examined, and/or copied for a fee, at the Commission's Public Document room, located at One White Flint North, 11555 Rockville Pike (first floor), Rockville, Maryland. Publicly available records will be accessible electronically from the Agencywide Documents Access and Management Systems (ADAMS) Public Electronic Reading Room on the internet at the NRC Web site, http://www.nrc.gov/NRC/ADAMS/index/html. If you do not have access to ADAMS or if there are problems in accessing the documents located in ADAMS, contact the NRC Public Document Room (PDR) Reference staff at 1-800-397-4209, 301-415-4737 or by email to pdr@nrc.gov.

Dated at Rockville, Maryland, this 10th day of July 2001.
For the Nuclear Regulatory Commission.
Brendan T. Moroney,
Project Manager, Section 2, Project Directorate II, Division of Licensing Project Management, Office of Nuclear Reactor Regulation.

[FR Doc. 01-17699 Filed 7-13-01; 8:45 am]

BILLING CODE 7590-01-P